DEPARTMENT OF THE INTERIOR

Bureau of Land Management

[LLORV00000.L10200000.DD0000; HAG 11-0168]

Meeting: Southeast Oregon Resource Advisory Council

AGENCY: Bureau of Land Management, Interior.

ACTION: Notice.

SUMMARY: Pursuant to the Federal Land Policy and Management Act and the Federal Advisory Committee Act, the U.S. Department of the Interior, Bureau of Land Management (BLM) Southeast Oregon Resource Advisory Council (SEORAC) will meet as indicated below.

DATES: The meeting will be held on April 28, 2011 and April 29, 2011.

ADDRESSES: The meeting will take place at the BLM Lakeview Office, 1301 South G Street, Lakeview, Oregon 97630.

FOR FURTHER INFORMATION CONTACT: Mark Wilkening, 100 Oregon Street, Vale, Oregon 97918, (541) 473-6218 or e-mail mark_wilkening@blm.gov.

SUPPLEMENTARY INFORMATION: The meeting will be held on April 28 and April 29, 2011, at the BLM Lakeview District Office Conference Room, 1301 South G Street, Lakeview, Oregon. On April 28, the meeting will be held from 1 p.m. to 4 p.m. Pacific Time. On April 29, the meeting will be held from 8 a.m. to 12 p.m. Pacific Time. The meeting may include such topics as an update on Oregon Department of Fish and Wildlife Sage-grouse plan; a report by the Federal managers on litigation, energy projects, and other issues affecting their districts; an update on BLM's Vegetation Environmental Impact Statement; a discussion of what to do with Oregon Natural Desert Association's request to organize a collaborative effort for wilderness; a Status Report on the BLM Vegetation Environmental Impact Statement step-down to the district treatments; information on the effects of wildland designation by the Department of the Interior; the election of officers; and a decision on the body of work that the SEORAC would like to accomplish this year and other matters as may reasonably come before the Council. The public is welcome to attend all portions of the meeting and may make oral comments to the Council at 10 a.m. on April 29, 2011. Those who verbally address the SEORAC are asked to provide a written statement of their comments or presentation. Unless otherwise approved by the SEORAC Chair, the public comment period will last no longer than 15 minutes, and each speaker may address the SEORAC for a maximum of five minutes. If reasonable accommodation is required, please contact the BLM Vale District Office at (541) 473-6218 as soon as possible.

Larry Frazier,
Associate Vale District Manager.

[FR Doc. 2011-6721 Filed 3-22-11; 8:45 am]

BILLING CODE 4310-33-P